FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicant

CTX Express, Inc., 6122 Orangethorpe Avenue, Suite 105, Buena Park, CA 90620. Officers: Nancy Y. Shen, Secretary (Qualifying Individual), Su-Chung Kuo, President

Non-Vessel Operating Common Carrier and Ocean Freight Forwarder Transportation Intermediary Applicants

Central Global Express Inc., 12225 Stephens Road, Warren, MI 48089. Officers: Sam W. Frank, President (Qualifying Individual), Hal Briand, Vice President

Starwood, Inc., 1352 N.W., 78th Avenue, Miami, FL 33126. Officers: Gregory R. Antoni, CEO (Qualifying Individual), Paul Peake, President

Baska Logistics & Trading, Inc., 150 SE 2nd Avenue, Suite 1008, Miami, FL 33131. Officers: Jose M. Rivas, Officer (Qualifying Individual), Luiz Antonio Silva Ramos, President

Ocean Freight Forwarder—Ocean Transportation Intermediary Applicant

Compass Shipping Inc., 325 Empire Blvd., Brooklyn, NY 11225. Officers: Hiladrius Borroughs, President (Qualifying Individual), Theresa Burroughs, Owner

Dated: June 15, 2001.
Theodore A. Zook,
Asst. Secretary.

[FR Doc. 01-15478 Filed 6-19-01; 8:45 am]

BILLING CODE 6730-01-P